Proclamation 10843 of October 18, 2024

National Forest Products Week, 2024

By the President of the United States of America

A Proclamation

Our forests are central to our country's heritage, history, and economy. Forests support livelihoods across Tribal Nations, rural towns, and big cities—from foresters and loggers to mill workers and carpenters—while also sustaining the health of our environment and our communities. During National Forest Products Week, we recognize that conserving our bountiful forests is critical to sustaining our economy and ensuring that Americans can enjoy the wonder of our forests for generations to come.

As a Nation, we rely on our forests for so much—from cleaning the air we breathe and the water we drink to providing the lumber and paper we use every day. But the existential threat of climate change endangers our forests, putting those jobs, livelihoods, and critical products at risk. After decades of fire suppression and ignoring climate change, wildfire seasons have become wildfire years, burning down communities, destroying forest ecosystems, and upending people's lives.

My first year in office, I launched the “America the Beautiful” initiative to conserve at least 30 percent of all our Nation's lands and waters by 2030 through local, voluntary efforts across the country while empowering foresters and farmers to advance sustainable practices to keep working lands productive. These efforts will help strengthen our economy and pass on a healthier planet to our children and grandchildren.

When I came into office, I was determined to conserve our forests while protecting the people who rely on them for jobs. My Bipartisan Infrastructure Law is creating jobs managing our forests, restoring ecosystems, and preventing catastrophic fires. It is investing in the removal of overgrown vegetation near homes and power lines, preparing evacuation routes in areas at risk of wildfires, removing invasive plant species from forests that can cause fire to spread, and planting native tree species that are more resilient to the changing climate. And my Inflation Reduction Act made the largest climate investment ever, putting people to work planting trees, sustainably managing our forests, and working on fire prevention. Together, these actions are producing new jobs that help us care for our forests and keep all of us safe from wildfires.

At the same time, my Administration is working to support the American workers and rural communities producing our forest products. We have awarded millions of dollars in grants to American businesses that support forest conservation, expand the sustainable use of American wood products, and find innovative ways to use our wood waste materials, including to build strong and sustainable buildings. I also take pride in having raised the Federal firefighter minimum wage to $15 per hour—an important first step in ensuring the people who run into flames to keep all of us safe are paid what they deserve.

Conserving our forests is good for our economy, the planet, and the soul of our Nation. This week, may we recommit to responsibly stewarding our forests and the abundant resources they provide so that we may all enjoy their benefits and beauty for years to come.

To recognize the importance of the many products generated by our Nation's forests, the Congress, by Public Law 86-753 (36 U.S.C. 123), as amended, has designated the week beginning on the third Sunday in October of each year as “National Forest Products Week” and has authorized and requested the President to issue a proclamation in observance of this week.

NOW, THEREFORE, I, JOSEPH R. BIDEN JR., President of the United States of America, by virtue of the authority vested in me by the Constitution and the laws of the United States, do hereby proclaim October 20 through October 26, 2024, as National Forest Products Week. I call upon the people of the United States to join me in this observance and in recognizing all Americans who are responsible for the stewardship of our Nation's beautiful forested landscapes.

IN WITNESS WHEREOF, I have hereunto set my hand this eighteenth day of October, in the year of our Lord two thousand twenty-four, and of the Independence of the United States of America the two hundred and forty-ninth.

[FR Doc. 2024-24761

Filed 10-22-24; 8:45 am]

Billing code 3395-F4-P